DEPARTMENT OF AGRICULTURE

Forest Service

Cibola National Forest, Mount Taylor Ranger District, NM, Designation of the Proposed Rinconada Communication Site

AGENCY: Forest Service, USDA.

ACTION: Notice of intent to prepare an environmental impact statement.

SUMMARY: The Cibola National Forest will prepare an environmental impact statement to assess the designation and development of the proposed Rinconada Communication Site on the Mt. Taylor Ranger District. The Forest Service proposes to designate a three-acre Rinconada Communication Site that would serve present and future high power communication needs, and to permit the development of a facility within the site.

DATES: Comments concerning the scope of the analysis must be received by days after the publication of the NOI. The draft environmental impact statement is expected November, 2008 and the final environmental impact statement is expected March, 2009.

ADDRESSES: Send written comments to Nancy Rose, Forest Supervisor, Cibola National Forest, 2113 Osuna Road NE., Albuquerque, NM 87113.

FOR FURTHER INFORMATION CONTACT: For further information, mail correspondence to Donald L. Hall, Cibola National Forest, 2113 Osuna Road NE., Albuquerque, NM 87113.

SUPPLEMENTARY INFORMATION:

Purpose and Need for Action

The proposed high power transmission facility cannot be placed on the existing Microwave Ridge Communication Site, located approximately one-half mile to the north, because the existing site is designated as a low power facility. It is not feasible to co-locate low and high power facilities; therefore, the new communication site is being proposed. The Rinconada site would occupy the location for Microwave Ridge No. 2, which was identified in the Cibola National Forest Land and Resource Management Plan.

Proposed Action

The Cibola National Forest has accepted an application for development of an FM transmission facility by KDSK Radio, Inc. within the Mt. Taylor Ranger District. The Forest Service proposes to designate a three-acre Rinconada Communication Site which would serve present and future high power communication needs, and to permit the development of the KDSK facility within the site. The site would provide radio broadcasting service to the citizens of Grants, New Mexico and those who live, commute, and work in the surrounding, more rural areas of Cibola and Valencia Counties. KDSK Radio's development would consist of an unlit, 180-foot, self-supporting tower with antennas, and an equipment building measuring 12 feet by 20 feet.

The proposed Rinconada Communication Site is approximately ½ mile south of the existing Microwave Ridge Communication Site, and is served by an existing power line and existing roads. The proposed site is located adjacent to Forest Service Road 400 in T.11N., R.7W., Section 17, NMPM, Cibola County, New Mexico.

Responsible Official

Forest Supervisor Nancy Rose, Cibola National Forest, 2113 Osuna Road NE., Albuquerque, NM 87113.

Nature of Decision To Be Made

The Forest Supervisor will use the EIS process to develop the necessary information to make an informed decision on whether or not to designate the Rinconada Communication Site and permit the development of the KDSK facility within the site.

Scoping Process

Scoping will include NOI to Federal Register, listing in the Quarterly Schedule of Proposed Actions, letters to interested and affected individuals, agencies, and organizations, and legal notices. No public meeting is planned.

Preliminary Issues

One preliminary issue has been identified. The designation and development of the Rinconada Communication Site may affect the characteristics that make the Mount Taylor Traditional Cultural Property eligible for the National Register of Historic Places.

Comment Requested

This notice of intent initiates the scoping process which guides the development of the environmental impact statement.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement.

Reviewers may wish to refer to the Council on Environmental Quality Regulations for implementing the procedural provisions of the National Environmental Policy Act at 40 CFR 1503.3 in addressing these points.

Comments received, including the names and addresses of those who comment, will be considered part of the public record on this proposal and will be available for public inspection.

Authority: 40 CFR 1501.7 and 1508.22; Forest Service Handbook 1909.15, Section 21.

Dated: August 5, 2008.
Nancy Rose,
Forest Supervisor, Cibola National Forest.

[FR Doc. E8-18833 Filed 8-13-08; 8:45 am]

BILLING CODE 3410-11-P